DEPARTMENT OF TRANSPORTATION

Federal Aviation Administration

14 CFR Part 71

[Docket No. FAA-2020-0236; Airspace Docket No. 18-AEA-16]

RIN 2120-AA66

Establishment and Amendment of Area Navigation Routes, Northeast Corridor Atlantic Coast Routes; Eastern United States.

AGENCY: Federal Aviation Administration (FAA), DOT.

ACTION: Final rule.

SUMMARY: This action establishes seven new high altitude area navigation (RNAV) routes (Q-routes), and modifies one existing Q-route, in support of the Northeast Corridor Atlantic Coast Route (NEC ACR) Project. This action improves the efficiency of the National Airspace System (NAS) by expanding the availability of RNAV routing and reducing the dependency on ground-based navigational systems.

DATES: Effective date 0901 UTC, September 10, 2020. The Director of the Federal Register approves this incorporation by reference action under Title 1 Code of Federal Regulations part 51, subject to the annual revision of FAA, Order 7400.11 and publication of conforming amendments.

ADDRESSES: FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it supports the air traffic service route structure in the eastern United States to maintain the efficient flow of air traffic.

History

The FAA published a notice of proposed rulemaking for Docket No. FAA-2020-0236 in the Federal Register (85 FR 16572; March 24, 2020) to establish 19 new Q-routes, and amend 13 existing Q-routes, in the northeastern United States to support the Northeast Corridor Atlantic Coast Route project. The NPRM proposed to designate the following new routes: Q-101, Q-107, Q-111, Q-115, Q-117, Q-119, Q-127, Q-129, Q-131, Q-133, Q-167, Q-220, Q-419, Q-430, Q-437, Q-439, Q-445, Q-450, and Q-481. In addition, the NPRM proposed amendments to the following existing routes: Q-22, Q-54, Q-60, Q-64, Q-85, Q-87, Q-97, Q-99, Q-109, Q-113, Q-135, Q-409, and Q-480. Interested parties were invited to participate in this rulemaking effort by submitting written comments on the proposal. No comments were received.

Differences From the NPRM

As the NPRM was published, the United States was undergoing the effects of the world-wide COVID-19 pandemic. The restrictions imposed to confront the pandemic impacted the ability of air traffic control facilities to conduct the required air traffic controller training to implement these routes, including required classroom and simulator training. The FAA determined that training to implement all 32 routes addressed in the NPRM could not be accomplished in the near-term.

As a result, the FAA is limiting the scope of this rule to establishing the following seven Q-routes: Q-119, Q-127, Q-129, Q-220, Q-430, Q-439, and Q-450; and amending the existing route: Q-480. The descriptions of these routes are the same as proposed in the NPRM. The remaining routes contained in the NPRM are removed from this rule and will be addressed by separate rulemaking action at a later date.

Area navigation routes are published in paragraph 2006, of FAA Order 7400.11D dated August 8, 2019, and effective September 15, 2019, which is incorporated by reference in 14 CFR 71.1. The area navigation routes listed in this document will be subsequently published in the Order.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

The FAA is amending Title 14, Code of Federal Regulations (14 CFR) part 71 by establishing seven new Q-routes, and amending one existing Q-route, in the eastern United States to support the Northeast Corridor Atlantic Coast Route project. The new routes are designated: Q-119, Q-127, Q-129, Q-220, Q-430, Q-439, and Q-450. In addition, amendments are made to the description of Q-480.

The new Q-routes are described as follows:

Q-119: Q-119 extends between the SCOOB, VA, WP, and the Westminster, MD (EMI), VORTAC.

Q-127: Q-127 extends between the Gordonsville, VA (GVE), VORTAC, and the Smyrna, DE (ENO), VORTAC.

Q-129: Q-129 extends between the GARIC, NC, WP, and the PYTON, MD, WP.

Q-220: Q-220 extends between the RIFLE, NY, Fix, and the LARIE, MA, WP.

Q-430: Q-430 extends between the ZANDER, OH, Fix, and the Nantucket, MA (ACK), VOR/DME.

Q-439: Q-439 extends between the BRIGS, NJ, Fix, and the Presque Isle, ME (PQI), VOR/DME.

Q-450: Q-450 extends between the HNNAH, NJ, Fix, and the Deer Park, NY (DPK), VOR/DME.

The amended Q route is described as follows:

Q-480: Q-480 extends between the ZANDR, OH, Fix, and the Kennebunk, ME, VORTAC. The route is amended by inserting the KYLOH, NH, WP and the BEEKN, ME, WPs between the Barnes, MA (BAF), VORTAC, and the Kennebunk, ME (ENE), VOR/DME. Otherwise, Q-480 remains as currently charted.

Full route descriptions of the proposed new and amended routes are listed in “The Amendment” section of this rule.

The new and amended routes expand the availability of high altitude RNAV routing along the eastern seaboard of the U.S. The project is designed to increase airspace capacity and reduce complexity in high volume areas through the use of optimized routes through congested airspace.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of establishing seven high altitude RNAV routes (Q routes), and amending one Q route qualifies for a categorical exclusion under the National Environmental Policy Act and its implementing regulations at 40 CFR part 1500, and in accordance with FAA Order 1050.1F—Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to cause any potentially significant environmental impacts. In accordance with FAA Order 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019 and effective September 15, 2019, is amended as follows:

Paragraph 2006 United States Area Navigation Routes

* * * * * * *
Q-119 SCOOB, VA to Westminster, MD (EMI) [New]
SCOOB, VA | WP | (Lat. 37°35′32.00″ N, long. 076°37′49.00″ W)
GROKK, VA | WP | (Lat. 37°52′22.88″ N, long. 076°40′49.87″ W)
RYVRR, VA | WP | (Lat. 38°02′17.54″ N, long. 076°42′36.92″ W)
SHTGN, MD | WP | (Lat. 38°14′45.29″ N, long. 076°44′52.23″ W)
DUALY, MD | WP | (Lat. 38°45′53.59″ N, long. 076°50′33.76″ W)
HALEX, MD | WP | (Lat. 38°53′49.13″ N, long. 076°52′01.49″ W)
Westminster, MD (EMI) | VORTAC | (Lat. 39°29′42.03″ N, long. 076°58′42.86″ W)
* * * * * * *
Q-127 Gordonsville, VA (GVE) to Smyrna, DE (ENO) [New]
Gordonsville, VA (GVE) | VORTAC | (Lat. 38°00′48.96″ N, long. 078°09′10.89″ W)
BUKYY, MD | WP | (Lat. 38°42′20.00″ N, long. 076°44′42.63″ W)
BAILZ, MD | WP | (Lat. 38°44′54.47″ N, long. 076°38′48.17″ W)
GRACO, MD | FIX | (Lat. 38°56′29.81″ N, long. 076°11′59.22″ W)
Smyrna, DE (ENO) | VORTAC | (Lat. 39°13′53.93″ N, long. 075°30′57.49″ W)
* * * * * * *
Q-129 GARIC, NC to PYTON, MD [New]
GARIC, NC | WP | (Lat. 33°52′34.84″ N, long. 077°58′53.66″ W)
YERBA, NC | WP | (Lat. 35°19′00.83″ N, long. 077°55′44.62″ W)
AARNN, NC | WP | (Lat. 36°22′43.59″ N, long. 078°01′04.05″ W)
THEOO, VA | WP | (Lat. 37°35′34.68″ N, long. 078°07′20.23″ W)
PYTON, MD | WP | (Lat. 39°42′38.01″ N, long. 078°18′10.19″ W)
* * * * * * *
Q-220 RIFLE, NY to LARIE, MA [New]
RIFLE, NY | FIX | (Lat. 40°41′24.18″ N, long. 072°34′54.89″ W)
HOFFI, NY | FIX | (Lat. 40°48′03.46″ N, long. 072°27′41.97″ W)
ORCHA, NY | WP | (Lat. 40°54′55.46″ N, long. 072°18′43.64″ W)
ALBOW, NY | WP | (Lat. 41°02′04.04″ N, long. 071°58′30.69″ W)
Sandy Point, RI (SEY) | VOR/DME | (Lat. 41°10′02.77″ N, long. 071°34′33.91″ W)
SKOWL, RI | WP | (Lat. 41°15′47.18″ N, long. 071°16′44.35″ W)
JAWZZ, MA | WP | (Lat. 41°24′08.08″ N, long. 070°50′33.25″ W)
LARIE, MA | WP | (Lat. 41°49′23.46″ N, long. 069°58′41.96″ W)
* * * * * * *
Q-430 ZANDER, OH to Nantucket, MA (ACK) [New]
ZANDER, OH | FIX | (Lat. 40°00′18.75″ N, long. 081°31′58.35″ W)
Bellaire, OH (AIR) | VOR/DME | (Lat. 40°01′01.29″ N, long. 080°49′02.02″ W)
LEJOY, PA | FIX | (Lat. 40°00′12.22″ N, long. 079°24′53.61″ W)
VINSE, PA | FIX | (Lat. 39°58′16.21″ N, long. 077°57′21.20″ W)
BEETS, PA | FIX | (Lat. 39°57′20.57″ N, long. 077°26′59.55″ W)
LARRI, PA | FIX | (Lat. 39°57′02.33″ N, long. 077°17′54.14″ W)
SAAME, PA | FIX | (Lat. 40°01′51.82″ N, long. 076°29′02.39″ W)
BYRDD, PA | FIX | (Lat. 40°05′31.93″ N, long. 075°49′07.29″ W)
COPES, PA | FIX | (Lat. 40°07′50.57″ N, long. 075°22′36.37″ W)
Robbinsville, NJ (RBV) | VORTAC | (Lat. 40°12′08.65″ N, long. 074°29′42.09″ W)
MYRCA, NJ | WP | (Lat. 40°20′42.97″ N, long. 073°56′58.07″ W)
CREEL, NY | FIX | (Lat. 40°26′50.51″ N, long. 073°33′10.68″ W)
RIFLE, NY | FIX | (Lat. 40°41′24.18″ N, long. 072°34′54.89″ W)
KYSKY, NY | FIX | (Lat. 40°46′52.75″ N, long. 072°12′21.45″ W)
LIBBE, NY | FIX | (Lat. 41°00′15.86″ N, long. 071°21′20.34″ W)
FLAPE, MA | FIX | (Lat. 41°03′56.30″ N, long. 071°04′10.55″ W)
DEEPO, MA | FIX | (Lat. 41°06′53.96″ N, long. 070°50′09.85″ W)
Nantucket, MA (ACK) | VOR/DME | (Lat. 41°16′54.79″ N, long. 070°01′36.16″ W)
* * * * * * *
Q-439 BRIGS, NJ to Presque Isle, ME (PQI) [New]
BRIGS, NJ | FIX | (Lat. 39°31′24.72″ N, long. 074°08′19.67″ W)
DRIFT, NJ | FIX | (Lat. 39°48′53.56″ N, long. 073°40′49.53″ W)
MANTA, NJ | FIX | (Lat. 39°54′07.01″ N, long. 073°32′31.63″ W)
PLUME, NJ | FIX | (Lat. 40°07′06.67″ N, long. 073°17′08.03″ W)
SHERL, NY | FIX | (Lat. 40°15′20.55″ N, long. 073°07′18.26″ W)
DUNEE, NY | FIX | (Lat. 40°19′24.38″ N, long. 073°02′26.06″ W)
SARDI, NY | FIX | (Lat. 40°31′26.61″ N, long. 072°47′55.87″ W)
RIFLE, NY | FIX | (Lat. 40°41′24.18″ N, long. 072°34′54.89″ W)
FOXWD, CT | WP | (Lat. 41°48′21.66″ N, long. 071°48′07.03″ W)
BOGRT, MA | WP | (Lat. 42°13′56.08″ N, long. 071°31′07.37″ W)
BLENO, NH | WP | (Lat. 42°54′55.00″ N, long. 071°04′43.37″ W)
BEEKN, ME | WP | (Lat. 43°20′51.95″ N, long. 070°44′50.28″ W)
FRIAR, ME | FIX | (Lat. 44°26′28.93″ N, long. 069°53′04.38″ W)
Presque Isle, ME (PQI) | VOR/DME | (Lat. 46°46′27.07″ N, long. 068°05′40.37″ W)
* * * * * * *
Q-450 HNNAH, NJ to Deer Park, NY (DPK) [New]
HNNAH, NJ | FIX | (Lat. 40°28′12.73″ N, long. 074°02′36.62″ W)
Kennedy, NY (JFK) | VOR/ME | (Lat. 40°37′58.40″ N, long. 073°46′17.00″ W)
Deer Park, NY (DPK) | VOR/DME | (Lat. 40°47′30.30″ N, long. 073°18′13.17″ W)
* * * * * * *
Q-480 ZANDR, OH to Kennebunk, ME (ENE) [Amended]
ZANDR, OH | FIX | (Lat. 40°00′18.75″ N, long. 081°31′58.35″ W)
Bellaire, OH (AIR) | VOR/DME | (Lat. 40°01′01.29″ N, long. 080°49′02.02″ W)
LEJOY, PA | FIX | (Lat. 40°00′12.22″ N, long. 079°24′53.61″ W)
VINSE, PA | FIX | (Lat. 39°58′16.21″ N, long. 077°57′21.20″ W)
BEETS, PA | FIX | (Lat. 39°57′20.57″ N, long. 077°26′59.55″ W)
HOTEE, PA | WP | (Lat. 40°20′36.00″ N, long. 076°29′37.00″ W)
MIKYG, PA | WP | (Lat. 40°36′06.00″ N, long. 075°49′11.00″ W)
SPOTZ, PA | WP | (Lat. 40°45′55.00″ N, long. 075°22′59.00″ W)
CANDR, NJ | FIX | (Lat. 40°58′15.55″ N, long. 074°57′35.38″ W)
JEFFF, NJ | FIX | (Lat. 41°14′46.38″ N, long. 074°27′43.29″ W)
Kingston, NY (IGN) | VOR/DME | (Lat. 41°39′55.62″ N, long. 073°49′20.01″ W)
LESWL, CT | WP | (Lat. 41°53′31.00″ N, long. 073°19′20.00″ W)
Barnes, MA (BAF) | VORTAC | (Lat. 42°09′43.05″ N, long. 072°42′58.32″ W)
KYLOH, NH | WP | (Lat. 43°03′53.11″ N, long. 071°13′45.49″ W)
BEEKN, ME | WP | (Lat. 43°20′51.95″ N, long. 070°44′50.28″ W)
Kennebunk, ME (ENE) | VOR/DME | (Lat. 43°25′32.42″ N, long. 070°36′48.69″ W)
* * * * * * *

Issued in Washington, DC, on June 26, 2020.
Scott M. Rosenbloom,
Acting Manager, Rules and Regulations Group.

[FR Doc. 2020-14313 Filed 7-2-20; 8:45 am]

BILLING CODE 4910-13-P